DEPARTMENT OF ENERGY

Federal Energy Regulatory Commission

[Docket No. CP08-61-000]

Trunkline Gas Company, LLC; Notice of Request Under Blanket Authorization

January 31, 2008.

Take notice that on January 23, 2008, Trunkline Gas Company, LLC (Trunkline), P. O. Box 4967, Houston, Texas 77210-4967, filed in Docket No. CP08-61-000, a prior notice request pursuant to sections 157.205, 157.210, and 157.216 of the Federal Energy Regulatory Commission's regulations under the Natural Gas Act for authorization to relocate an existing interconnect with Enbridge Pipeline (East Texas) L.P. (Enbridge), located in Hardin County, Texas, and increase the certificated capacity of Trunkline's North Texas transmission system by 40 MMcf/d, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Trunkline proposes to relocate the Enbridge Pipeline (East Texas) L.P. Meter Station from its current location at Trunkline's existing Kountze Compressor Station, located in Kountze, Hardin County, Texas, to a new location near Silsbee, Hardin County, Texas. Trunkline states that the relocation will increase the certificated capacity of Trunkline's North Texas transmission system expansion facilities by 40 MMcf/d. Trunkline asserts that the increase in capacity will benefit Trunkline's shippers. Trunkline declares that it will be able to receive, and, at the same time, Enbridge will be able to increase the volumes of natural gas being delivered to Trunkline for further transportation to natural gas markets. Trunkline proposes to relocate the Enbridge facilities located at the Kountze Compressor Station approximately 15 miles east and install and own two 12-inch hot tap assemblies on existing 24-inch Lines 100-1 and 100-2, and install a 16-inch above-grade valve that will function as the overpressure protection device and RTU. Trunkline estimates the cost to relocate the meter station to be $983,040.

Any questions regarding the application should be directed to Stephen T. Veatch, Regulatory Affairs, Trunkline Gas Company, LLC, 5444 Westheimer Road, Houston Texas 77056, call (713) 989-2024, fax (713) 989-1158, or by e-mail Stephen.Veatch@SUG.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-2203 Filed 2-6-08; 8:45 am]

BILLING CODE 6717-01-P